ENVIRONMENTAL PROTECTION AGENCY

40 CFR Part 80

[EPA-HQ-OAR-2013-0479; FRL-9919-92-OAR]

Delay in Issuing 2014 Standards for the Renewable Fuel Standard Program

AGENCY: Environmental Protection Agency (EPA).

ACTION: Notification of delay in issuing standards.

SUMMARY: The Environmental Protection Agency (EPA) is announcing that it will not be finalizing 2014 applicable percentage standards under the Renewable Fuel Standard (RFS) program before the end of 2014. In light of this delay in issuing the 2014 RFS standards, the compliance demonstration deadline for the 2013 RFS standards will take place in 2015. EPA will be making modifications to the EPA-Moderated Transaction System (EMTS) to ensure that Renewable Identification Numbers (RINs) generated in 2012 are valid for demonstrating compliance with the 2013 applicable standards.

DATES: December 9, 2014.

FOR FURTHER INFORMATION CONTACT: Julia MacAllister, Office of Transportation and Air Quality, Assessment and Standards Division, Environmental Protection Agency, 2000 Traverwood Drive, Ann Arbor, MI 48105; Telephone number: (734) 214-4131; Fax number: (734) 214-4816; Email address: macallister.julia@epa.gov.

SUPPLEMENTARY INFORMATION: On November 29, 2013, at 78 FR 71732, EPA published a notice of proposed rulemaking to establish the 2014 RFS standards.¹ The proposal has generated significant comment and controversy, particularly about how volumes should be set in light of lower gasoline consumption than had been forecast at the time that the Energy Independence and Security Act was enacted, and whether and on what basis the statutory volumes should be waived. Most notably, commenters expressed concerns regarding the proposal's ability to ensure continued progress towards achieving the volumes of renewable fuel targeted by the statute.

¹ 78 FR 71732, November 29, 2013.

EPA has been evaluating these issues in light of the purposes of the statute and the Administration's commitment to the goals of the statute to increase the use of renewable fuels, particularly cellulosic biofuels, which will reduce the greenhouse gases emitted from the consumption of transportation fuels and diversify the nation's fuel supply.

Finalization of the 2014 standards rule has been significantly delayed. Due to this delay, and given ongoing consideration of the issues presented by the commenters, EPA is not in a position to finalize the 2014 RFS standards rule before the end of the year. Accordingly, we intend to take action on the 2014 standards rule in 2015 prior to or in conjunction with action on the 2015 standards rule.²

² EPA intends to adjust the schedule for compliance reporting for the 2014 RFS standards in 40 CFR 80.1451(a)(1) to reflect the delay in issuing the final 2014 RFS standards rule. No compliance reporting is necessary absent a final 2014 standards rule.

EPA intends to modify EMTS to permit the trading and retiring of 2012 vintage RINs beyond December 31, 2014. EPA will incorporate the modifications into EMTS version 4.1, which is scheduled to be deployed by April 1, 2015. From January 1, 2015 until the release of version 4.1, EMTS will not be able to support 2012 RIN transactions. Please note that 2012 RIN holding data stored in EMTS is safe and will be preserved even though it will not be accessible during the period from January 1, 2015 until the release of version 4.1.

Dated: November 21, 2014.
Janet G. McCabe,
Acting Assistant Administrator for Air and Radiation.

[FR Doc. 2014-28163 Filed 12-8-14; 8:45 am]

BILLING CODE 6560-50-P